DEPARTMENT OF LABOR

Employment and Training Administration

[TA-W-54,952]

VF Intimates, LP, Johnstown, PA; Dismissal of Application for Reconsideration

Pursuant to 29 CFR 90.18(C) an application for administrative reconsideration was filed with the Director of the Division of Trade Adjustment Assistance for workers at VF Intimates, LP, Johnstown, Pennsylvania. The application contained no new substantial information which would bear importantly on the Department's determination. Therefore, dismissal of the application was issued.

TA-W-54,952; VF Intimates, LP Johnstown, Pennsylvania (October 8, 2004)

Signed at Washington, DC, this 15th day of October 2004.
Timothy Sullivan,
Director, Division of Trade Adjustment Assistance.

[FR Doc. E4-3293 Filed 11-22-04; 8:45 am]

BILLING CODE 4510-30-P